DEPARTMENT OF ENERGY

Federal Energy Regulatory Commission

[Project No. 15366-000]

Town of Stowe Electric Department; Notice of Application Tendered for Filing with the Commission and Soliciting Additional Study Requests

Take notice that the following hydroelectric application has been filed with the Commission and is available for public inspection.

a. Type of Application: Exemption from Licensing.

b. Project No.: 15366-000.

c. Date Filed: July 2, 2024.

d. Applicant: Town of Stowe Electric Department (Town of Stowe).

e. Name of Project: Smith's Falls Hydroelectric Project (project).

f. Location: On the Little River in Lamoille County, Vermont.

g. Filed Pursuant to: Public Utility Regulatory Policies Act of 1978, 16 U.S.C. 2705, 2708, amended by the Hydropower Regulatory Efficiency Act of 2013, Public Law 113-23, 127 Stat. 493 (2013).

h. Applicant Contact: Mr. Michael Lazorchak, Manager, Regulatory Affairs, Town of Stowe Electric Department, PO Box 190, Stowe, VT 05672; telephone at (802) 253-7217; email at mlazorchak@stoweelectric.com.

i. FERC Contact: Joshua Dub, Project Coordinator, Great Lakes Branch, Division of Hydropower Licensing; telephone at (202) 502-8138; email at Joshua.Dub@FERC.gov.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 3, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Smith's Falls Hydroelectric Project (P-15366-000).

m. The application is not ready for environmental analysis at this time.

n. Project Description: The proposed project would consist of: (1) an existing 194-foot-long, 18-foot-high concrete dam that includes: (a) a south abutment; (b) an existing spillway that would be modified to include: (i) a 37-foot-long section with a new 2-foot-high concrete cap with a crest elevation of 635.8 feet North American Vertical Datum of 1988 (NAVD 88); (ii) a 120-foot-long section with a new 2-foot-high concrete cap and a new 3-foot-high inflatable rubber crest gate with a maximum crest elevation of 635.8 feet NAVD 88; and (iii) a new section with a low-level outlet gate and a debris sluice gate equipped with a flushing pipe; (c) a non-overflow section that consists of an existing non-operational intake structure and abutments at an existing mill building; and (d) a new intake structure with a sluice gate equipped with a 22.4-foot-long trashrack with 1-inch clear bar spacing, that would replace an existing non-operational intake structure.

The modified dam would create an impoundment with a surface area of 1.75 acres at the spillway crest elevation of 635.8 feet NAVD 88. The existing spillway includes an approximately 20-foot-long, 1.7-foot-high breached section with a crest elevation of 634.1 feet NAVD 88. Therefore, the existing dam currently creates an impoundment with a surface area that is 0.7 acre smaller than the surface area of the proposed impoundment. The applicant states that the historical crest elevation of the dam is 635.8 feet NAVD 88, and that the proposed concrete cap and rubber crest gate would restore the dam and the impoundment to their historical elevation. The existing dam also includes a non-operational low-level outlet gate on the south side of the spillway that would be used during construction and then permanently plugged after construction is complete.

From the impoundment, water would flow through the new intake structure into an approximately 110-foot-long concrete sluiceway that would consist of an existing 8-foot-wide section and a new 7-foot-wide section. The sluiceway would convey water to a new 150-kilowatt vertical Kaplan turbine-generator in a new approximately 22-foot-long, 15-foot-wide wood and steel powerhouse. Water would be discharged from the turbine through a draft tube to a new 40-foot-long, 12-foot-wide tailrace, where it would return to the Little River. The project would create an approximately 150-foot-long bypassed reach of the Little River.

Electricity generated at the project would be transmitted to the electric grid via a new underground 45-foot-long, 480-volt generator lead line.

The Town of Stowe proposes to: (1) operate the project in a run-of-river mode with an estimated annual energy production of approximately 410 megawatt-hours; and (2) release a continuous minimum flow of 15 cubic feet per second or inflow, whichever is less, over the rubber dam.

o. In addition to publishing the full text of this notice in the Federal Register, the Commission provides all interested persons an opportunity to view and/or print the contents of this notice, as well as other documents in the proceeding (e.g., exemption application) via the internet through the Commission's Home Page (http://www.ferc.gov) using the “eLibrary” link. Enter the docket number excluding the last three digits in the docket number field to access the document (P-15366). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

q. With this notice, we are initiating consultation with the Vermont State Historic Preservation Officer (SHPO), as required by section 106 of the National Historic Preservation Act and the regulations of the Advisory Council on Historic Preservation, 36 CFR 800.4.

r. Procedural schedule: The application will be processed according to the following preliminary schedule. Revisions to the schedule will be made as appropriate.

Issue Deficiency Letter and Request Additional Information September 2024

Issue Scoping Document 1 for comments November 2024

Request Additional Information (if necessary) December 2024

Issue Acceptance Letter December 2024

Issue Scoping Document 2 (if necessary) January 2025

Dated: July 16, 2024.
Debbie-Anne A. Reese,
Acting Secretary.

[FR Doc. 2024-16079 Filed 7-22-24; 8:45 am]

BILLING CODE 6717-01-P